DEPARTMENT OF ENERGY

Energy Efficiency and Renewable Energy

Biomass Research and Development Technical Advisory Committee

AGENCY: Energy Efficiency and Renewable Energy, Department of Energy.

ACTION: Notice of Solicitation of Nominations for Appointment as a Member of the Biomass Research and Development Technical Advisory Committee.

SUMMARY: In accordance with the Federal Advisory Committee Act, 5 U.S.C. App. 2, the U.S. Department of Energy is soliciting nominations for candidates to fill vacancies on the Biomass Research and Development Technical Advisory Committee (Technical Advisory Committee).

DATES: The deadline for nominations for members will be accepted on or before August 9, 2012.

ADDRESSES: The nominations must include name, a resume, biography, and any letters of support and are to be submitted via one of the following methods:

(1) Email to elliott.levine@ee.doe.gov.

(2) Overnight delivery service to: Elliott Levine, Designated Federal Officer, Office of Energy Efficiency and Renewable Energy, U.S. Department of Energy, Mail Stop EE-2E, 1000 Independence Avenue SW., Washington, DC 20585.

FOR FURTHER INFORMATION CONTACT: Elliott Levine, Designated Federal Officer, Office of Energy Efficiency and Renewable Energy, U.S. Department of Energy, Mail Stop EE-2E,1000 Independence Avenue SW., Washington, DC 20585; (202) 586-1476; Email: elliott.levine@ee.doe.gov.

Committee's Web site: http://biomassboard.gov/committee/committee.html.

SUPPLEMENTARY INFORMATION: The Biomass Research and Development Act of 2000 (Biomass Act) [Pub. L. 106-224] requires cooperation and coordination in biomass research and development (R&D) between the U.S. Department of Agriculture (USDA) and U.S. Department of Energy (DOE). The Biomass Act was repealed and replaced in June 2008 by Section 9008 of the Food, Conservation and Energy Act of 2008 (FCEA) [Pub. L. 110-246, 122 Stat. 1651, enacted June 18, 2008, H.R. 6124].

FCEA section 9008(d) established the Biomass Research and Development Technical Advisory Committee and lays forth its meetings, coordination, duties, terms, and membership types. The Committee must meet quarterly and should not duplicate the efforts of other Federal advisory committees. Meetings are typically two days in duration. Three meetings are held in the Washington, DC area and the fourth is held at a site to be determined each year. Members of the Committee serve without compensation; however, each appointed member may be reimbursed for authorized travel and per diem expenses incurred while attending committee meetings, in accordance with Federal Travel Regulations.

The Committee advises the DOE and USDA points of contact with respect to the Biomass R&D Initiative (Initiative) and also makes written recommendations to the Biomass R&D Board (Board). Those recommendations regard whether: (A) Initiative funds are distributed and used consistent with Initiative objectives; (B) solicitations are open and competitive with awards made annually; (C) objectives and evaluation criteria of the solicitations are clear; and (D) the points of contact are funding proposals selected on the basis of merit, and determined by an independent panel of qualified peers.

The Committee members may serve up to two, three-year terms and must include: (A) An individual affiliated with the biofuels industry; (B) an individual affiliated with the biobased industrial and commercial products industry; (C) an individual affiliated with an institution of higher education that has expertise in biofuels and biobased products; (D) two prominent engineers or scientists from government or academia that have expertise in biofuels and biobased products; (E) an individual affiliated with a commodity trade association; (F) two individuals affiliated with environmental or conservation organizations; (G) an individual associated with State government who has expertise in biofuels and biobased products; (H) an individual with expertise in energy and environmental analysis; (I) an individual with expertise in the economics of biofuels and biobased products; (J) an individual with expertise in agricultural economics; (K) an individual with expertise in plant biology and biomass feedstock development; (L) an individual with expertise in agronomy, crop science, or soil science; and (M) at the option of the points of contact, other members (REF: FCEA 2008 section 9008(d)(2)(A)). All nominees will be carefully reviewed for their expertise, leadership, and relevance to an expertise. Appointments will be made for three-year terms, as dictated by the legislation.

Nominations this year are being accepted for the following categories in order to address the Committee's needs: (D) Prominent engineers or scientist from government or academia that have expertise in biofuels and biobased products; (I) an individual with expertise in the economics of biofuels and biobased products; and (M) at the option of the points of contact, other members. Nominations for other categories will also be accepted. Nomination categories D, I, and M are considered special Government employees (SGEs) and require submittal of an annual financial disclosure form.

Nominations are solicited from organizations, associations, societies, councils, federations, groups, universities, and companies that represent a wide variety of biomass research and development interests throughout the country. Nominations for one individual that fits several of the categories listed above or for more than one person that fits one category will be accepted. In your nomination letter, please indicate the specific membership category for each nominee. Each nominee must submit their resume and biography along with any letters of support by the deadline above. If you were nominated in previous years, but were not appointed to the committee and would still like to be considered, please submit your nomination package again in response to this notice with all required materials. All nominees will be vetted before selection.

Nominations are open to all individuals without regard to race, color, religion, sex, national origin, age, mental or physical handicap, marital status, or sexual orientation. The DOE and USDA are committed to bringing greater diversity of thought, perspective and experience to its advisory committees. Nominees from all races, gender[s], age[s] and persons living with disabilities are encouraged to apply. Please note that registered lobbyists and individuals already serving another Federal Advisory Committee are ineligible for nomination.

Appointments to the Biomass Research and Development Technical Advisory Committee will be made by the Secretary of Energy and the Secretary of Agriculture.

Issued in Washington, DC, on July 11, 2012.
LaTanya R. Butler,
Acting Deputy Committee Management Officer.

[FR Doc. 2012-17397 Filed 7-17-12; 8:45 am]

BILLING CODE 6450-01-P